DEPARTMENT OF COMMERCE

National Oceanic and Atmospheric Administration

[I.D. 101200B]

Endangered Species; Permits

AGENCY: National Marine Fisheries Service (NMFS), National Oceanic and Atmospheric Administration (NOAA), Commerce.

ACTION: Receipt of application for a research/enhancement permit (1266); issuance of permits (1236, 1200, 1258).

SUMMARY: Notice is hereby given of the following actions regarding permits for takes of endangered and threatened species for the purposes of scientific research and/or enhancement: NMFS has received a research/enhancement permit application from John Glass of REMSA, Inc. (REMSA) (1266); and NMFS has issued permits to: Dr. Jack Musick, Virginia Institute of Marine Science (VIMS) (1236); David Stier, Springfield Science Museum (SSM) (1200) and David Jones, North Carolina Zoological Park (NCZoo)(1258).

DATES: Comments or requests for a public hearing on any of the new applications or modification requests must be received at the appropriate address or fax number no later than 5 pm eastern standard time on November 20, 2000.

ADDRESSES: Written comments on any of the new applications or modification requests should be sent to the appropriate office as indicated below. Comments may also be sent via fax to the number indicated for the application or modification request. Comments will not be accepted if submitted via e-mail or the Internet. The applications and related documents are available for review in the indicated office, by appointment:

Endangered Species Division, Office of Protected Resources, NMFS, 1315 East-West Highway, Silver Spring, MD, 20910 301-713-1401.

FOR FURTHER INFORMATION CONTACT: Terri Jordan (ph: 301-713-1401, fax: 301-713-0376, e-mail: Terri.Jordan@noaa.gov).

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS..

Species Covered in This Notice

The following species are covered in this notice:

Sea Turtles

Green turtle (Chelonia mydas), Hawksbill turtle (Eretmochelys imbricata), Kemp's ridley turtle (Lepidochelys kempii), Leatherback turtle (Dermochelys coriacea), Loggerhead turtle (Caretta caretta).

Fish

Shortnose Sturgeon (Acipenser brevirostrum)

New Applications Received

Application 1266: The applicant has requested a 5-year permit to take 30 loggerhead; seven green; five Kemp's ridley; four hawksbill and four leatherback turtles from the Atlantic Ocean and Gulf of Mexico in conjunction with US Army Corps of Engineer Dredging projects for scientific research and enhancement purposes.

Permits Issued

Permit 1236: Notice was published on April 14, 2000 (65 FR 20138), that NMFS received an application from VIMS for a research permit. The applicant requested a 5-year permit to take listed sea turtles in the coastal waters of the US Virgin Islands. Research conducted in the US Virgin Islands will study habitat utilization of juvenile Hawksbill turtles at the Buck Island Reef National Monument off of St. Croix, USVI. The study will capture, handle, tag (PIT, flipper, satellite, radio and acoustic), collect biological samples (via humeral bone biopsy, blood samples and laparoscopy) and release loggerhead, green , Kemp’s ridley, hawksbill and leatherback turtles. Permit 1236 was issued on October 10, 2000, authorizing take of listed species. Permit 1236 expires June 30, 2005.

Permit 1200: Notice was published on February 19, 1999 (64 FR 8331), that the SSM applied for a enhancement permit (1200). The applicant had requested permission to maintain up to five (5) endangered shortnose sturgeon in captivity for educational purposes. The sturgeon will be captive sturgeon received from the Conte Anadromous Research Center that have been classified as “non-releasable” by NMFS. Permit 1200 was issued on October 12, 2000, authorizing take of listed species. Permit 1200 expires September 30, 2005.

Permit 1258: Notice was published on June 9, 2000 (65 FR 36666), that the NCZoo applied for a enhancement permit (1258). The applicant requested a 5-year permit to continue to maintain four (4) adult shortnose sturgeon in captivity for enhancement purposes. The NCZoo currently possesses four adult shortnose sturgeon received from the US Fish and Wildlife Service hatchery at Warm Springs Georgia in November 1996 under scientific research permit #986. These sturgeon have been classified as “non-releasable” by NMFS. Permit 986 will expire on December 31, 2000 and the permit holder does not wish to renew the enhancement aspects of his permit. As a direct result, the North Carolina Zoological Park is applying for an individual permit to continue maintenance of these fish. Permit 1258 was issued on October 12, 2000, authorizing take of listed species. Permit 1258 expires July 31, 2005.

Dated: October 12, 2000.
Wanda L. Cain,
Chief, Endangered Species Division, Office of Protected Resources, National Marine Fisheries Service.

[FR Doc. 00-26941 Filed 10-18-00; 8:45 am]

BILLING CODE 3510-22-S